DEPARTMENT OF ENERGY

Federal Energy Regulatory Commission

[Project Nos. 2403, 2534, 2666, 2710, 2712, 2721, and 10981; and Docket No. DI97-10; Project No. 2312; Project No. 2600]

PPL Maine, LLC, PPL Great Works, LLC, Bangor Pacific Hydro Associates; Notice of Comprehensive Settlement Accord and Soliciting Comments

June 29, 2004.

Take notice that the following Comprehensive Settlement Accord has been filed with the Commission and is available for public inspection.

a. Type of Application: Lower Penobscot River Basin comprehensive settlement accord with explanatory statement (comprehensive settlement).

b. Project Nos.: 2403, 2534, 2666, 2710, 2712, 2721, 10981, 2312, and 2600.

Docket No.: DI97-10.

c. Date Filed: June 25, 2004.

d. Applicant: PPL Maine, LLC (PPL Maine) and affiliated companies (PPL).

e. Names of Projects: Veazie (P-2403), Milford (P-2534), Medway (P-2666), Orono (P-2710), Stillwater (P-2712), Howland (P-2721), Basin Mills (P-10981), Great Works (P-2312), and West Enfield (P-2600).

Location: The Veazie, Great Works, and West Enfield Projects are located on the Penobscot River in Penobscot County, Maine. The Milford Project is located on the Penobscot and Stillwater Rivers in Penobscot County, Maine. The Stillwater and Orono Projects are located on the Stillwater River in Penobscot County, Maine. The Medway Project is located on the West Branch Penobscot River in Penobscot County, Maine. The Howland Project is located on the Piscataquis River in Penobscot County, Maine. The Basin Mills Project would be located on the Penobscot River in Penobscot County, Maine.

f. Filed Pursuant to: Rule 602 of the Commission's Rules of Practice and Procedure, 18 CFR 385.602.

g. Applicant Contact: John A. Whittaker, IV, Winston & Strawn, 1400 L Street, NW., Washington, DC 20005, (202) 371-5766, jwhittak@winston.com.

h. FERC Contact: Ed Lee at (202) 502-6082 or Ed.Lee@ferc.gov.

i. Deadline for Filing Comments: The deadline for filing comments on the Comprehensive Settlement, the Joint Request (see below), and the FWS Modified Prescriptions (see below) is 20 days from the date of this notice. The deadline for filing reply comments is 30 days from the date of this notice. All documents (original and eight copies) should be filed with: Magalie R. Salas, Secretary, Federal Energy Regulatory Commission, 888 First Street, NE., Washington, DC 20426. The Commission will publicly notice for comment the five license amendment applications and the application for new license discussed below when those applications are accepted for Commission processing.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 395.2001(a)(1)(iii) and the instructions of the Commission's Web site (http://www.ferc.gov) under the “e-filing” link.

j. Description of Filing: PPL filed the Comprehensive Settlement jointly with 12 stakeholders: The Penobscot Indian Nation (PIN), the United States Department of the Interior acting through its bureaus the Fish and Wildlife Service (FWS), the Bureau of Indian Affairs (BIA), and the National Park Service (collectively DOI), the Maine Agencies (the Maine State Planning Office, the Maine Atlantic Salmon Commission, the Maine Department of Inland Fisheries and Wildlife, and the Maine Department of Marine Resources), the Conservation Interests (American Rivers, Inc., the Atlantic Salmon Federation, the Maine Audubon Society, the Natural Resources Council of Maine, and Trout Unlimited), and the Penobscot River Restoration Trust (Trust) (collectively Parties). The Comprehensive Settlement is embodied in the Lower Penobscot River Multiparty Settlement Agreement dated June 2004 (the MPA) and in two additional agreements attached to the MPA: the Lower Penobscot River Option Agreement dated June 2004 (Option Agreement) and the Comprehensive Settlement Agreement Between the Penobscot Indian Nation, PPL Maine, LLC, and the Bureau of Indian Affairs of the Department of the Interior dated June 2004 (PIN Agreement).

The Parties propose in the Comprehensive Settlement a phased approach to resolving all fish passage, energy generation, and tribal issues associated with PPL's Lower Penobscot River hydroelectric projects. Under the Comprehensive Settlement, PPL will grant the Trust a five-year option to acquire Veazie, Howland, and Great Works (Designated Projects), and thereafter decommission and remove Veazie and Great Works and decommission and either alter Howland by constructing a fish bypass system that would substantially or entirely maintain the existing dam structure and impoundment or remove the dam. If the option is exercised, PPL and the Trust would file applications to transfer the licenses for the Designated Projects to the Trust and the Trust would file applications to surrender the licenses and to obtain Commission authorization to decommission and remove/alter them. If the Commission approves those subsequent applications, the MPA provides an opportunity for certain energy enhancements to be pursued. To allow the option process to work, the Parties propose in a Joint Request submitted with the Comprehensive Settlement that the Commission suspend the relicensing proceedings for Howland and Great Works and extend certain requirements of the Milford and Veazie licenses until the option has been exercised, has expired, or has been terminated (Joint Request). As required by the MPA, PPL has separately filed separate applications to amend the licenses for Veazie, Milford, Stillwater, Medway, and West Enfield and an application for a new 40-year license for Orono. These applications propose energy enhancements at West Enfield, Stillwater, and Medway (one-foot headpond increases) and at Orono (refurbishment at existing capacity). The Milford and West Enfield applications propose the addition of provisions to address impacts on the PIN Reservation and other interests. The Parties also propose that the fish passage provisions of the Veazie, Milford, Stillwater, and West Enfield licenses be modified (and the new Orono license contain provisions) as specified in an attachment to the MPA (Attachment A). To implement these modified fish passage provisions, PPL has included in four of the license amendment applications and in the new license application requests for incorporation of provisions consistent with Attachment A, and the FWS has separately submitted Preliminary Prescription Modifications and Preliminary Prescriptions for Milford, Veazie, Stillwater, and Orono (FWS Modified Prescriptions). The FWS Modified Prescriptions contain fish passage provisions to be implemented initially and when the Designated Projects are acquired by the Trust.

The Parties included the MPA, the Option Agreement, and the PIN Agreement with the Comprehensive Settlement filing for informational purposes only and are not requesting that the Commission approve any of these three agreements. Rather, they request that the Commission approve the applications/requests that they have submitted to implement the initial phase of the Comprehensive Settlement (Phase 1 Requests): The Joint Request, the license amendment applications for Veazie, Milford, Stillwater, Medway, and West Enfield, the application for new license for Orono, and the FWS Modified Prescriptions. The MPA provides that, if the Commission approves all of the Phase 1 Requests without material change, the requests for rehearing of the Commission's April 20, 1998 orders in the Basin Mills, et al. proceedings and certain submittals made by DOI in the Milford relicensing proceeding will be withdrawn.

k. Copies of the Comprehensive Settlement, the Joint Request, and the FWS Modified Prescriptions are available for review at the Commission in the Public Reference Room or may be viewed on the Commission's Web site at http://www.ferc.gov, using the “eLibrary” link. Enter the docket number, excluding the last three digits in the docket number field to access the documents. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Linda Mitry,
Acting Secretary.

[FR Doc. E4-1513 Filed 7-9-04; 8:45 am]

BILLING CODE 6717-01-P